DEPARTMENT OF JUSTICE

Antitrust Division

Notice Pursuant to the National Cooperative Research and Production Act of 1993—National Armaments Consortium

Notice is hereby given that, on April 14, 2020, pursuant to Section 6(a) of the National Cooperative Research and Production Act of 1993, 15 U.S.C. 4301 et seq. (“the Act”), National Armaments Consortium (“NAC”) has filed written notifications simultaneously with the Attorney General and the Federal Trade Commission disclosing changes in its membership. The notifications were filed for the purpose of extending the Act's provisions limiting the recovery of antitrust plaintiffs to actual damages under specified circumstances. Specifically, 3M Company, St. Paul, MN; Abaco Systems, Inc., Huntsville, AL; Aery Aviation, LLC, Newport News, VA; AI Signal Research, Inc., Huntsville, AL; Alare Technologies, LLC, Moorpark, CA; CatalystE, LLC, Huntsville, AL; Cortina Solutions, LLC, Huntsville, AL; CUBRC, Inc., Buffalo, NY; DELTA Resources, Inc., Alexandria, VA; DeLUX Engineering, LLC DBA DeLUX Advanced Manufacturing, LLC, Newark, DE; Dillon Aero, Inc., Scottsdale, AZ; EndoSec LLC, Washington, DC; Evans Capacitor Company, East Providence, RI; FD Software Enterprises, Bangor, PA; Fiore Industries, Inc., Albuquerque, NM; Fisheye Software, Inc., Maynard, MA; Guidehouse LLP, McLean, VA; Hanwha International, LLC, Arlington, VA; ITSC Secure Solutions, LLC, Fairfax, VA; Kratos RT Logic, Inc., Colorado Springs, CO; Maximum Technology Corporation, Huntsville, AL; Mi-Tech Tungsten Metals, LLC, Indianapolis, IN; NextGen Federal Systems, LLC, Morgantown, WV; Rafael Systems Global Sustainment, LLC, Bethesda, MD; Richter Precision Inc., East Petersburg, PA; Science, Engineering, Management Solutions, LLC, Albuquerque, NM; Scientific Applications & Research Associates, Inc. (SARA), Cypress, CA; SECOTEC, Inc., Huntsville, AL; Taylor Devices, Inc., North Tonawanda, NY; Techximius Corp., Joppa, MD; TETAC, Inc., Monterey, CA; Titan Robotics, Inc., Pittsburgh, PA; VersaTOL, LLC, McDonough, GA; Volunteer Aerospace, LLC, Knoxville, TN; Wittenstein Aerospace & Simulation, Inc., Bartlett, IL have been added as parties to this venture.

Also, 3rd Millenium Group, LLC, Boxborough, MA; Advanced Acoustic Concepts, LLC, Hauppauge, NY; Aeryone Defense USA, Inc., Denver, CO; Aquabotix Technology Corporation, Fall River, MA; Beatty and Company Computing, Inc., Southlake, TX; Cree, Inc., Durham, NC; Defense Makers Incorporated, Huntsville, AL; DfR Solutions, LLC, Beltsville, MD; Fulcrum Concepts LLC, Mattaponi, VA; Gunger Engineering, Niceville, FL; Hart Scientific Consulting International, Tucson, AZ; Insight Engineering Solutions, Townsend, DE; Novateur Research Solutions LLC, Leesburg, VA; Per Vivo Labs, Inc., Kingsport, TN; Problem Solutions, LLC, Johnstown, PA; Programs Management Analytics & Technologies, Inc., Norfolk, VA; RedFish Trading, LLC, San Antonio, TX have withdrawn as parties to this venture.

No other changes have been made in either the membership or planned activity of the group research project. Membership in this group research project remains open and NAC intends to file additional written notifications disclosing all changes in membership.

On May 2, 2000, NAC filed its original notification pursuant to Section 6(a) of the Act. The Department of Justice published a notice in the Federal Register pursuant to Section 6(b) of the Act on June 30, 2000 (65 FR 40693).

The last notification was filed with the Department on January 10, 2020. A notice was published in the Federal Register pursuant to Section 6(b) of the Act on January 31, 2020 (85 FR 5720).

Suzanne Morris,
Chief, Premerger and Division Statistics Unit, Antitrust Division.

[FR Doc. 2020-09601 Filed 5-4-20; 8:45 am]

BILLING CODE 4410-11-P